NATIONAL TRANSPORTATION SAFETY BOARD

Sunshine Act Meeting

Time and Place: 9:30 a.m., Tuesday, December 10, 2002.

Place: NTSB Conference Center, 429 L'Enfant Plaza SW., Washington, DC 20594.

Status: The One Item is Open to the Public.

Matter to be Considered: 7263B Aviation Accident Report—Loss of control and impact with Pacific Ocean, Alaska Airlines flight 261, McDonnell Douglas MD-83, N963AS, about 2.7 miles north of Anacapa Island, California, January 31, 2000.

News Media Contact: Telephone: (202) 314-6100. Individuals requesting specific accommodations should contact Ms. Carolyn Dargan at (202) 314-6305 by Friday, December 6, 2002.

FOR MORE INFORMATION CONTACT: Vicky D'Onofrio, (202) 314-6410.

Dated: November 29, 2002.
Vicky D'Onofrio,
Federal Register Liaison Officer.

[FR Doc. 02-30775 Filed 11-29-02; 2:30 pm]

BILLING CODE 7533-01-M